DEPARTMENT OF VETERANS AFFAIRS

Veterans' Family, Caregiver, and Survivor Advisory Committee

AGENCY: Department of Veterans Affairs.

ACTION: Notice of intent.

SUMMARY: We are giving notice that the Secretary of Veterans Affairs intends to reestablish the Veterans' Family, Caregiver, and Survivor Advisory Committee for a 2-year period. The Secretary has determined that the Committee is necessary and in the public interest.

FOR FURTHER INFORMATION CONTACT: Jeffrey Moragne, Committee Management Office, Department of Veterans Affairs, Advisory Committee Management Office (00AC), 811 Vermont Avenue, 4th floor NW, Washington, DC 20420; telephone (202) 714-1578; or email at Jeffrey.Moragne@va.gov.

SUPPLEMENTARY INFORMATION: Pursuant to the Federal Advisory Committee ACT, notice is hereby given that the Secretary of Veterans Affairs intends to reestablish the Veterans' Family, Caregiver, and Survivor Advisory Committee for two (2) years from the filing date of the charter's reestablishment. The Committee advises the Secretary with respect to the Veterans' families, caregivers and survivors benefits and services across the Department of Veterans Affairs (VA) enterprise that includes Veterans Health Administration (VHA), Veterans Benefits Administration (VBA), Board of Veterans Appeals (BVA) and the National Cemetery Administration (NCA). The Committee serves in an advisory capacity by making recommendations to the Secretary on (1) an assessment of the needs, supports, and services for Veterans' families, caregivers and survivors across all generations and service eras; (2) a review of the programs and activities of the Department designed to meet such needs; (3) find and provide opportunities to further integrate Veterans' families, caregivers, and survivors into VA's services, including recommendations on how VA can improve and/or expand delivery of the Veterans Health Administration, Veterans Benefits Administration, Board of Veterans Appeals and National Cemetery Administration services and benefits; and (4) such recommendations (administrative and legislative action) as the Committee considers appropriate.

Dated: July 21, 2025.
Jelessa M. Burney,
Federal Advisory Committee Management Officer.

[FR Doc. 2025-13838 Filed 7-22-25; 8:45 am]

BILLING CODE 8320-01-P